DEPARTMENT OF THE INTERIOR

Bureau of Indian Affairs

25 CFR Part 115

RIN 1076-AE00

Trust Management Reform: Leasing/Permitting, Grazing, Probate and Funds Held in Trust

AGENCY: Bureau of Indian Affairs, Interior.

ACTION: Final rule; technical amendment.

SUMMARY: The Department of the Interior, Bureau of Indian Affairs (BIA) today is making a technical amendment to its rulemaking published on January 22, 2001, regarding Trust Funds for Tribes and Individual Indians. In formatting explanatory charts for publication, the question which refers to a particular chart regarding sources of money that will be accepted for deposit into a trust account was inadvertently omitted from the published regulation. The technical amendment is to simply include this question to appropriately make reference to the explanatory chart that has been published. This question is included in the table of contents and was in the copy of the regulation placed on public display before publication.

EFFECTIVE DATE: March 23, 2001.

FOR FURTHER INFORMATION CONTACT: Duncan L. Brown, Office of the Secretary, U.S. Department of the Interior, 1849 C Street, NW, MS 7229 MIB, Washington, DC 20240, Telephone: 202/208-4582.

SUPPLEMENTARY INFORMATION: This technical amendment simply includes a question, already included in the table of contents, for part 115 of “Trust Management Reform: Leasing/Permitting, Grazing, Probate and Funds Held in Trust,” as published on January 22, 2001, 66 FR 7068, that was inadvertently omitted from the text of the rule. We, therefore, insert this question for § 115.702 between the two charts that now follows § 115.701 as this omitted question for § 115.702 pertains to (and explains) the second chart only. Pursuant to 5 U.S.C. 553(b), public comment is not required for this technical amendment as this amendment does not make any substantive regulatory change and simply promotes administrative efficiency and corrects an inadvertent omission of text. Pursuant to 5 U.S.C. 553(d), the rulemaking will take effect immediately for good cause as the omission of the question for § 115.702 would only confuse the public and defeat the efficiency of the rulemaking.

List of Subjects in 25 CFR Part 115

Administrative practice and procedure, Indians—business and finance.

For the reasons stated in the preamble, the Department of the Interior, Bureau of Indian Affairs, Amends 25 CFR part 115 as follows:

PART 115—[AMENDED]

1. The authority citation for part 115 continues to read as follows:

Authority: R.S. 441, as amended, R.S. 463, R.S. 465; 5 U.S.C. 301; 25 U.S.C. 2; 25 U.S.C. 9; 43 U.S.C. 1457; 25 U.S.C. 4001; 25 U.S.C. 161(a); 25 U.S.C. 162a; 25 U.S.C. 164; Pub. L. 87-283; Pub. L. 97-100; Pub. L. 97-257; Pub. L. 103-412; Pub. L. 97-458; 44 U.S.C. 3010 et seq.

2. The second chart in § 115.701 is redesignated as § 115.702 and the section leading and introductory text are added preceding the chart to read as follows:

§ 115.702 What specific sources of money will be accepted for deposit into a trust account?

We must accept proceed on behalf of tribes or individuals from the following sources:

* * * * *

Dated: January 26, 2001.
James McDivitt,
Deputy Assistant Secretary—Indian Affairs.

[FR Doc. 01-2737 Filed 2-1-01; 8:45 am]

BILLING CODE 4310-02-M